DEPARTMENT OF COMMERCE

National Oceanic and Atmospheric Administration

RIN 0648-XG881

Marine Mammals; File No. 22686

AGENCY: National Marine Fisheries Service (NMFS), National Oceanic and Atmospheric Administration (NOAA), Commerce.

ACTION: Notice; issuance of permit.

SUMMARY: Notice is hereby given that a permit has been issued to the Chicago Zoological Society, Brookfield Zoo (Bill Zeigler, Responsible Party), 3300 Golf Road, Brookfield, IL 60513, to import up to three bottlenose dolphins (Tursiops truncatus) for public display.

ADDRESSES: The permit and related documents are available online at https://www.fisheries.noaa.gov/action/permit-application-import-3-bottlenose-dolphins-file-no-22686-chicago-zoological-society or upon written request to the Permits and Conservation Division, Office of Protected Resources, NMFS, 1315 East-West Highway, Room 13705, Silver Spring, MD 20910; phone: (301) 427-8401; fax: (301) 713-0376.

FOR FURTHER INFORMATION CONTACT: Jennifer Skidmore and Courtney Smith; phone: (301) 427-8401.

SUPPLEMENTARY INFORMATION: On March 19, 2019, notice was published in the Federal Register (84 FR 10044) that a request for a public display permit had been submitted by the above-named applicant. The requested permit has been issued under the authority of the Marine Mammal Protection Act of 1972, as amended (16 U.S.C. 1361 et seq.) and the regulations governing the taking and importing of marine mammals (50 CFR part 216).

The permit authorizes the importation of three captive born bottlenose dolphins from Dolphin Quest Bermuda to either the Brookfield Zoo in Brookfield, Illinois or Coral World Ocean Park in St. Thomas, U.S. Virgin Islands for the purpose of public display. The permit expires on December 1, 2024, or upon the importation of all three dolphins, whichever occurs first.

In compliance with the National Environmental Policy Act of 1969 (42 U.S.C. 4321 et seq.), a final determination has been made that the activity proposed is categorically excluded from the requirement to prepare an environmental assessment or environmental impact statement.

Dated: December 4, 2019.
Julia Marie Harrison,
Chief, Permits and Conservation Division, Office of Protected Resources, National Marine Fisheries Service.

[FR Doc. 2019-26476 Filed 12-6-19; 8:45 am]

BILLING CODE 3510-22-P